DEPARTMENT OF AGRICULTURE

Forest Service

Baylor Park Timber Blowdown Analysis, White River National Forest; Garfield County, CO

AGENCY: Forest Service, USDA.

ACTION: Notice of intent to prepare an Environmental Impact Statement (EIS).

SUMMARY: The Baylor Park Area was affected by a windthrow event that blew down Engelmann spruce, subalpine fir, and aspen trees on about 2,000-3,000 acres, on August 18th, 1999. The affected area is located on the Sopris and Rifle Range Districts of the White River National Forest. The area contains mature and overmature Engelmann spruce and with an endemic population of spruce beetle. The purpose of and need for this project is to treat the blowdown and damaged area to prevent and control insect infestations. The spruce beetle is the most serious pest of Engelmann spruce. It is restricted largely to mature and overmature spruce, and epidemics have occurred throughout history. One of the most damaging outbreaks was in Colorado from 1939 to 1951, when beetles killed nearly 6 billion board feet of standing spruce. Damaging attacks have been largely associated with extensive windthrow, where downed trees provided an ample food supply for a rapid buildup of beetle populations. The beetle progeny then emerge to attack living trees, but if downed material is not available, then standing trees may be attacked. Large, overmature trees are attacked first, but if an infestation persists, beetles will attack and kill smaller trees after the large trees in the stand are killed.

Proposed Action is to remove and/or treat damaged or windthrown trees, by use of salvage sales and other treatment methods. Other treatment methods include but are not limited to: bark peeling, pile and burning and prescribed fire, to reduce the risk of insect infestation outbreaks. In addition, the proposal would salvage or treat Engelmann spruce trees affected by spruce beetles in the analysis area. The U.S. Department of Agriculture, Forest Service will prepare an Environmental Impact Statement to determine to what extent, if any, that timber sale salvage operations or other methods of treatment, of Engelmann spruce, sub alpine fir and aspen are to occur.

DATE: Comments concerning the scope of the analysis should be received in writing on or before March 13, 2000.

ADDRESSES: Send written comments to Richard L. Doak, Acting District Ranger, Sopris Ranger District, White River National Forest, PO Box 309, Carbondale, CO 81623. The Forest Supervisor Martha J. Ketelle, P.O. Box 948, Glenwood Springs, CO 81601 is the Responsible Official for the Environmental Impact Statement and Record of Decision.

FOR FURTHER INFORMATION CONTACT: Janice Spencer, Project Coordinator, White River National Forest, P.O. Box 948, Glenwood Springs, CO 81601.

SUPPLEMENTARY INFORMATION: Due to the difficulty in performing cultural surveys, the close proximity of wetlands, and potential of a roadless area entry to treat the down and damaged timber, An Environmental Impact Statement (EIS) is required as per Forest Service Handbook 1909.15, Section 20.6. The intent of the EIS is to determine to what extent, if any, that timber sale salvage operations or other methods of treatment, of Engelmann spruce, subalpine fir and aspen are to occur. These trees were damaged during a wind event that occurred on August 18, 1999 in the Baylor Park area. The blowdown occurred over an area of approximately 2,000-3,000 acres on the Sopris and Rifle Ranger Districts of the White River National Forest. The proposed action will be consistent with programmatic management direction contained in the Rocky Mountain Regional Guide for Standards and Guidelines (1983) and in the Land and Resource Management Plan for the White River National Forest (LMP, 1984). The LMP allocated the proposed timber sale area to wood fiber production and utilization of sawtimber products, with a small portion of the sale area being allocated to be managed for rangeland improvement and livestock grazing. All of the allocations allow for timber harvest to occur.

Based on internal Forest Service scoping, the preliminary issues include the effects of the proposed action on: area wildlife and wildlife habitat, recreation use and visual quality, watershed quality, wetland management, cultural resources, risk of insect infestation outbreaks, wildfire risk, and the transportation system—including possible entry into a roadless area.

Preliminary alternatives include, but are not limited to:

1. No Action, existing management activities under the current Forest Plan will continue.

2. The proposed action is to remove and/or treat damaged or windthrown trees, by use of salvage sales and other treatment methods, such as bark peeling, pile and burning and prescribed fire, in order to reduce the risk of insect infestation outbreaks. In addition, the proposal would salvage or treat Englemann spruce trees affected by spruce beetles in the analysis area.

3. Live timber will be harvested above that which was damaged, to treat all of the stands within the affected blowndown and damaged area for both silvicultural and economic reasons.

Alternatives will be carefully examined for their potential impacts on the physical, biological, and social environments so that tradeoffs are apparent to the decision maker. The decisions to be made by the Forest Supervisor, based on the pending analysis to be documented in this EIS are: Should the blowdown and damaged trees in the Baylor Park area be treated to reduce possible spruce beetle infestation? And, if so: Should road construction be allowed for timber harvest in this area? How will cultural resources be best protected?

Permits and licenses required to implement the proposed action will, or may, include the following: Consultation with U.S. Fish and Wildlife Service for compliance with Section 7 of the Threatened & Endangered Species Act; review from the Colorado Division of Wildlife, consultation with the Army Corps of Engineers, and clearance from the Colorado State Historic Preservation Office. Public participation will be fully incorporated into preparation of the EIS. The first step is the scoping process, during which the Forest Service will be seeking information, comments, and assistance from Federal, State, and local agencies, and other individuals or groups who may be interested or affected by the proposed action. Public comments received during initial scoping for this project will be incorporated into this EIS. The Forest Service predicts the draft environmental impact statement will be filed during the summer of 2000 and the final environmental impact statement and record of decision during the winter of 2000. The comment period on the draft environmental impact statement will be forty-five days from the date the Environmental Protection Agency publishes the notice of availability in the Federal Register.

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts, City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. (Reviewers may wish to refer to the Council on Environmental Quality Regulations for implementing the procedural provisions of the National Environmental Policy Act at 40 CFR 1503.3 in addressing these points.)

Dated: February 2, 2000.
Martha J. Ketelle,
Forest Supervisor.

[FR Doc. 00-3265 Filed 2-10-00; 8:45 am]

BILLING CODE 3410-BW-M